DEPARTMENT OF TRANSPORTATION

Federal Highway Administration

Notice of Final Federal Agency Actions on Proposed Highway in California

AGENCY: Federal Highway Administration (FHWA), DOT.

ACTION: Notice of Limitation on Claims for Judicial Review of Actions by the California Department of Transportation (Caltrans), pursuant to 23 U.S.C. 327.

SUMMARY: The FHWA, on behalf of Caltrans, is issuing this notice to announce actions taken by Caltrans. The actions relate to a proposed highway project, State Route 132 West Freeway/Expressway Project from post miles 11.0 to 15.0 and 15.7 to 17.5 in the County of Stanislaus in the City of Modesto, State of California. Those actions grant licenses, permits, and approvals for the project.

DATES: By this notice, the FHWA, on behalf of Caltrans, is advising the public of final agency actions. A claim seeking judicial review of the Federal agency actions on the highway project will be barred unless the claim is filed on or before August 30, 2018. If the Federal law that authorizes judicial review of a claim provides a time period of less than 150 days for filing such claim, then that shorter time period still applies.

FOR FURTHER INFORMATION CONTACT: For Caltrans: Haesun Lim, Acting Branch Chief, Central Sierra Environmental Analysis Branch, 855 M Street, Suite Significant Impact (FONSI) for the project, approved on March 9, 2018, and in other documents in the FHWA project records. The EA, FONSI, and other project records are available by contacting Caltrans at the addresses provided above. The Caltrans EA and FONSI can be viewed and downloaded from the project website at http://www.dot.ca.gov/d10/x-project-sr132west.html, or viewed at the Stanislaus County Library (1500 I Street, Modesto, CA 95354).

This notice applies to all Federal agency decisions as of the issuance date of this notice and all laws under which such actions were taken, including but not limited to:

1. National Environmental Policy Act (NEPA)

2. Fixing America's Surface Transportation Act (Fast Act)

3. Clean Air Act

4. Federal-Aid Highway Act

5. Clean Water Act

6. Historic Sites Act

7. Section 106 of the National Historic Preservation Act

8. Archeological Resources Protection Act

9. Archeological and Historic Preservation Act

10. Antiquities Act

11. Endangered Species Act

12. Migratory Bird Treaty Act

13. Fish and Wildlife Coordination Act

14. Magnuson-Stevens Fishery Conservation and Management Act

15. Section 4(f) of the Department of Transportation Act

16. Civil Rights Act, Title VI

17. Farmland Protection Policy Act

18. Uniform Relocation Assistance and Real Property Acquisition Policies Act

19. Rehabilitation Act

20. Americans with Disabilities Act

21. Comprehensive Environmental Response, Compensation, and Liability Act (CERCLA)

22. Resource Conservation and Recovery Act (RCRA)

23. Safe Drinking Water Act

24. Occupational Safety and Health Act

25. Atomic Energy Act

26. Toxic Substances Control Act

27. Federal Insecticide, Fungicide and Rodenticide Act

28. E.O. 11990 Protection of Wetlands; E.O. 11988 Floodplain Management

29. E.O. 12898, Federal Actions to Address Environmental Justice in Minority Populations and Low Income Populations

30. E.O. 12088, Federal Compliance with Pollution Control Standards

(Catalog of Federal Domestic Assistance Program Number 20.205, Highway Planning and Construction. The regulations implementing Executive Order 12372 regarding intergovernmental consultation on Federal programs and activities apply to this program.)

Authority: 23 U.S.C. 139(l)(1).

Kenneth Born,
Team Leader, Planning and Air Quality, Federal Highway Administration, Sacramento, California.

[FR Doc. 2018-06639 Filed 3-30-18; 8:45 am]

BILLING CODE 4910-RY-P